DEPARTMENT OF COMMERCE

International Trade Administration

North American Free-Trade Agreement, Article 1904; NAFTA Panel Reviews; Request for Panel Review

AGENCY: NAFTA Secretariat, United States Section, International Trade Administration, Department of Commerce.

ACTION: Correction to Notice of First Request for Panel Review.

SUMMARY: The Notice of First Request in NAFTA Case No. USA-CDA-2004-1904-02 published in the Federal Register on January 7, 2005 listed an incorrect date for filing of the complaints. The correct date for filing a complaint is January 26, 2005.

Dated: January 7, 2005.
Caratina L. Alston,
United States Secretary, NAFTA Secretariat.

[FR Doc. 05-688 Filed 1-12-05; 8:45 am]

BILLING CODE 3510-GT-P